NUCLEAR REGULATORY COMMISSION

[NRC-2020-0255]

Implementation of Aging Management Requirements for Spent Fuel Storage Renewals

AGENCY: Nuclear Regulatory Commission.

ACTION: Draft regulatory guide; request for comment.

SUMMARY: The U.S. Nuclear Regulatory Commission (NRC) is issuing for public comment draft regulatory guide (DG), DG-3055, “Implementation of Aging Management Requirements for Spent Fuel Storage Renewals.” This DG is a proposed new regulatory guide that would describes an approach that is acceptable to the staff of the NRC to meet the regulatory requirements for spent fuel storage renewals. It addresses requirements for the renewal of specific licenses for independent spent fuel storage installations (ISFSI) and certificates of compliance (CoC) for spent fuel storage cask designs pursuant to NRC requirements.

DATES: Submit comments by January 25, 2021. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods; however, the NRC encourages electronic comment submission through the Federal Rulemaking website:

• Federal Rulemaking Website: Go to https://www.regulations.gov and search for Docket ID NRC-2020-0255. Address questions about Docket IDs in Regulations.gov to Jennifer Borges; telephone: 301-287-9127; email: Jennifer.Borges@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on accessing information and submitting comments, see “Obtaining Information and Submitting Comments” in the SUPPLEMENTARY INFORMATION section of this document.

FOR FURTHER INFORMATION CONTACT: Kristina Banovac, telephone: 301-415-7116, email: Kristina.Banovac@nrc.gov, or Harriet Karagiannis, telephone: 301-415-2493, email: Harriet.Karagiannis@nrc.gov. Both are staff of the U.S. Nuclear Regulatory Commission, Washington, DC 20555-0001.

SUPPLEMENTARY INFORMATION:

I. Obtaining Information and Submitting Comments

A. Obtaining Information

Please refer to Docket ID NRC-2020-0255 when contacting the NRC about the availability of information regarding this action. You may obtain publicly available information related to this action, by any of the following methods:

• Federal Rulemaking Website: Go to https://www.regulations.gov and search for Docket ID NRC-2020-0255.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine, and order copies of public documents is currently closed. You may submit your request to the PDR via email at PDR.Resource@nrc.gov or call 1-800-397-4209 between 8:00 a.m. and 4:00 p.m. (EST), Monday through Friday, except Federal holidays.

B. Submitting Comments

The NRC encourages electronic comment submission through the Federal Rulemaking website: https://www.regulations.gov. Please include Docket ID NRC-2020-0255 in your comment submission.

The NRC cautions you not to include identifying or contact information that you do not want to be publicly disclosed in your comment submission. The NRC posts all comment submissions at https://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe methods that are acceptable to the NRC staff for implementing specific parts of the agency's regulations, to explain techniques that the staff uses in evaluating specific issues or postulated events, and to describe information that the staff needs in its review of applications for permits and licenses.

This DG, titled, “Implementation of Aging Management Requirements for Spent Fuel Storage Renewals,” is temporarily identified by its task number, DG-3055 (ADAMS Accession No. ML20282A298). This draft guide is a proposed new regulatory guide (RG) 3.76. Regulatory Guide 3.76 describes an approach that is acceptable to the staff of the NRC by endorsing, with clarifications, the Nuclear Energy Institute (NEI) guidance in NEI 14-03, Revision 2, “Format, Content and Implementation Guidance for Dry Cask Storage Operations-Based Aging Management,” issued December 2016.

This new RG provides guidance to industry for complying with and implementing the requirements for spent fuel storage renewals in part 72 of title 10 of the Code of Federal Regulations (10 CFR), “Licensing Requirements for the Independent Storage of Spent Nuclear Fuel, High-Level Radioactive Waste, and Reactor-Related Greater Than Class C Waste.” This guidance addresses renewal of ISFSI specific licenses and CoCs for spent fuel storage cask designs in 10 CFR 72.42, “Duration of license; renewal,” and 10 CFR 72.240, “Conditions for spent fuel storage cask renewal,” respectively.

The guidance specifically addresses the format and content of spent fuel storage renewal applications and the implementation of aging management programs (AMPs). The guidance uses an operations-focused approach to aging management, in which operating experience is shared through an industry database and continually assessed to adjust AMPs, as needed and within regulatory limits, to ensure the effectiveness of aging management activities during the period of extended operation and the continued safe storage of spent fuel.

The staff is also issuing for public comment a draft regulatory analysis (ADAMS Accession No. ML20282A299). The staff develops a regulatory analysis to assess the value of issuing this new regulatory guide as well as alternative courses of action.

III. Backfitting, Forward Fitting, and Issue Finality

This proposed regulatory guide, RG 3.76, proposes to endorse, with clarifications, NEI 14-03, which provides guidance on the format and content of spent fuel storage renewal applications and implementation of aging management programs under 10 CFR part 72. As explained in the proposed RG 3.76, licensees are not required to comply with the positions set forth in this regulatory guide. Therefore, proposed RG 3.76 does not constitute backfitting as defined in 10 CFR 72.62, “Backfitting,” and as described in NRC Management Directive (MD) 8.4, “Management of Backfitting, Forward Fitting, Issue Finality, and Information Requests;” or constitute forward fitting as that term is defined and described in MD 8.4. If, in the future, the NRC were to impose a position in this proposed RG 3.76 in a manner that would constitute backfitting or forward fitting, then the NRC would address the backfitting provision in 10 CFR 72.62 or the forward fitting provision of MD 8.4, respectively.

Dated: December 8, 2020.
For the Nuclear Regulatory Commission.
Meraj Rahimi,
Chief, Regulatory Guidance and Generic Issues Branch, Division of Engineering, Office of Nuclear Regulatory Research.

[FR Doc. 2020-27351 Filed 12-10-20; 8:45 am]

BILLING CODE 7590-01-P